DEPARTMENT OF COMMERCE

International Trade Administration

[A-560-828]

Certain Uncoated Paper From Indonesia: Final Results of Antidumping Duty Administrative Review; 2015-2017

AGENCY: Enforcement and Compliance, International Trade Administration, Department of Commerce.

SUMMARY: The Department of Commerce (Commerce) continues to find that the one subject producer/exporter of subject merchandise did not sell certain uncoated paper from Indonesia at less that normal value during the period of review (POR), August 26, 2015, through February 28, 2017. No interested party submitted comments on the preliminary results.

DATES: Applicable August 9, 2018.

FOR FURTHER INFORMATION CONTACT: Blaine Wiltse or David Crespo, AD/CVD Operations, Office II, Enforcement and Compliance, International Trade Administration, U.S. Department of Commerce, 1401 Constitution Avenue NW, Washington, DC 20230; telephone: (202) 482-6345 or (202) 482-3693, respectively.

SUPPLEMENTARY INFORMATION:

Background

On April 9, 2018, Commerce published the Preliminary Results.¹ Although we invited parties to comment on the preliminary results of the review,² no interested party submitted comments. Accordingly, no decision memorandum accompanies this Federal Register notice. Commerce conducted this administrative review in accordance with section 751 of the Tariff Act of 1930, as amended (the Act).

¹ See Certain Uncoated Paper from Indonesia: Preliminary Results of Antidumping Duty Administrative Review; 2015-2017, 83 FR 15129 (April 9, 2018) (Preliminary Results), and accompanying Preliminary Decision Memorandum (PDM).

² See Preliminary Results, 83 FR at 15130.

Scope of the Order

The merchandise under review includes uncoated paper in sheet form; weighing at least 40 grams per square meter but not more than 150 grams per square meter; that either is a white paper with a GE brightness level ³ of 85 or higher or is a colored paper; whether or not surface-decorated, printed (except as described below), embossed, perforated, or punched; irrespective of the smoothness of the surface; and irrespective of dimensions (Certain Uncoated Paper).

³ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Certain Uncoated Paper includes (a) uncoated free sheet paper that meets this scope definition; (b) uncoated ground wood paper produced from bleached chemi-thermo-mechanical pulp (BCTMP) that meets this scope definition; and (c) any other uncoated paper that meets this scope definition regardless of the type of pulp used to produce the paper.

Specifically excluded from the scope are (1) paper printed with final content of printed text or graphics and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

On September 1, 2017, Commerce determined that that imports of uncoated paper with a GE brightness of 83 +/− 1% (83 Bright paper), otherwise meeting the description of in-scope merchandise, constitute merchandise “altered in form or appearance in minor respects” from in-scope merchandise that are subject to this order.⁴

⁴ See Certain Uncoated Paper from Australia, Brazil, the People's Republic of China, Indonesia, and Portugal: Affirmative Final Determination of Circumvention of the Antidumping and Countervailing Duty Orders, 82 FR 41610 (September 1, 2017).

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the order is dispositive.

Analysis

In the Preliminary Results, we determined that the sole mandatory respondent, APRIL,⁵ did not make sales of subject merchandise at prices below normal value during the POR. As no parties commented on the Preliminary Results, we are adopting the decisions outlined in the PDM in these final results of review. For additional details, see the PDM, which is a public document and is on file electronically via Enforcement and Compliance's Antidumping and Countervailing Duty Centralized Electronic Service System (ACCESS). ACCESS is available to registered users at http://access.trade.gov and in the Central Records Unit, room B8024 of the main Department of Commerce building. In addition, a complete version of the PDM can be accessed directly on the internet at http://enforcement.trade.gov/frn/index.html. The signed and the electronic versions of the PDM are identical in content.

⁵ In the Preliminary Results, Commerce determined to collapse, and treat as a single entity, the mandatory respondent, PT Anugerah Kertas Utama, PT Riau Andalan Kertas, and APRIL Fine Paper Macao Offshore Limited (collectively, APRIL), and its two affiliated parties, PT Sateri Viscose International and A P Fine Paper Trading (Hong Kong) Limited. The collapsed entity is hereinafter collectively referred to as APRIL. See Preliminary Results PDM at 3 and 5-6.

Final Results of the Review

As a result of this review, we are assigning a dumping margin of zero to APRIL for the period August 26, 2015, through February 28, 2017, as follows:

Exporter/producer | Weighted-average dumping margin (percent)
PT Anugerah Kertas Utama/PT Riau Andalan Kertas/PT Sateri Viscose International/A P Fine Paper Trading (Hong Kong) Limited/APRIL Fine Paper Macao Offshore Limited (collectively, APRIL) | 0.00

Assessment Rates

Commerce shall determine, and U.S. Customs and Border Protection (CBP) shall assess, antidumping duties on all appropriate entries. Because APRIL's weighted-average dumping margin in the final results of this review is zero, we will instruct CBP to liquidate APRIL's entries without regard to antidumping duties. In addition, for entries of subject merchandise during the POR produced by APRIL for which it did not know its merchandise was destined for the United States, we will instruct CBP to liquidate unreviewed entries at the all-others rate if there is no rate for the intermediate company or companies involved in the transaction. The all-others rate is 2.10 percent.⁶ We will also instruct CBP to take into account the “provisional measures cap” in accordance with 19 CFR 351.212(d).

⁶ See Certain Uncoated Paper from Australia, Brazil, Indonesia, the People's Republic of China, and Portugal: Amended Final Affirmative Antidumping Determinations for Brazil and Indonesia and Antidumping Duty Orders, 81 FR 11174 (March 3, 2016).

Commerce intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rate for APRIL will be zero; (2) for previously-investigated companies not participating in this review, the cash deposit rate will continue to be the company-specific rate published for the most recently completed segment; (3) if the exporter is not a firm covered in this review, or the original less-than-fair value (LTFV) investigation, but the manufacturer is, the cash deposit rate will be the rate established for the most recent segment for the manufacturer of the merchandise; and (4) the cash deposit rate for all other manufacturers or exporters will continue to be 2.10 percent, the all-others rate made effective by the LTFV investigation. These deposit requirements, when imposed, shall remain in effect until further notice.

Notification to Importers

This notice serves as the only reminder to importers of their responsibility, under 19 CFR 351.402(f)(2), to file a certificate regarding the reimbursement of antidumping and/or countervailing duties prior to liquidation of the relevant entries during this review period. Failure to comply with this requirement could result in the Secretary's presumption that reimbursement of antidumping and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(a)(1) and 777(i) of the Act and sections 19 CFR 351.213(h) and 351.221(b)(5).

Dated: August 6, 2018.
James Maeder,
Associate Deputy Assistant Secretary for Antidumping and Countervailing Duty Operations performing the duties of Deputy Assistant Secretary for Antidumping and Countervailing Duty Operations.

[FR Doc. 2018-17066 Filed 8-8-18; 8:45 am]

BILLING CODE 3510-DS-P